DEPARTMENT OF TRANSPORTATION

Federal Motor Carrier Safety Administration

[Docket No. FMCSA-2007-27500]

Notice of Request for Information (RFI): Revision of an Information Collection: Hazardous Materials Safety Permits (Formerly Hazardous Materials Permit)

AGENCY: Federal Motor Carrier Safety Administration (FMCSA), DOT.

ACTION: Notice; request for comments.

SUMMARY: In accordance with the Paperwork Reduction Act of 1995, FMCSA announces its plan to submit the Information Collection Request (ICR) described below to the Office of Management and Budget (OMB) for review and approval and invites public comment. The FMCSA invites comments on its plan to request OMB approval to revise an existing information collection entitled “Hazardous Materials (HM) Safety Permits”, OMB Control Number 2126-0030. FMCSA requires companies holding permits to develop a communications plan that allows for the periodic tracking of the shipment. A record of the communications may be kept by either the driver (e.g., recorded in the log book) or the company that contains the time of the call and location of the shipment. These records must be kept, either physically or electronically, for at least six months at the company's principal place of business or readily available to employees at the company's principal place of business.

DATES: We must receive your comments on or before September 18, 2007.

ADDRESSES: You may submit comments identified by any of the following methods. Please identify your comments by the FMCSA Docket Number FMCSA-2007-27500.

• Web site: http://dms.dot.gov. Follow instructions for submitting comments to the Docket.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590 between 9 a.m. and 5 p.m., e.t., Monday through Friday, except Federal holidays.

Docket: For access to the Docket Management System (DMS) to read background documents or comments received, go to http://dms.dot.gov at any time or to the U.S. Department of Transportation, Docket Operations, M-30, West Building Ground Floor, Room W12-140, 1200 New Jersey Avenue, SE., Washington, DC 20590 between 9 a.m. and 5 p.m., e.t., Monday through Friday, except Federal holidays. The DMS is available electronically 24 hours each day, 365 days each year. If you want notification of receipt of your comments, please include a self-addressed, stamped envelope, or postcard or print the acknowledgement page that appears after submitting comments on-line.

Privacy Act: Anyone is able to search the electronic form of all comments received into any of our dockets by the name of the individual submitting the comment (or signing the comment, if submitted on behalf of an association, business, labor union, etc.). You may review DOT's complete Privacy Act Statement in the Federal Register on April 11, 2000 (65 FR 19477), or you may visit http://dms.dot.gov.

FOR FURTHER INFORMATION CONTACT: Mr. James O. Simmons, Hazardous Materials Division, phone (202) 366-6121; FAX (202) 366-3921; or e-mail james.simmons@dot.gov; Federal Motor Carrier Safety Administration, DOT, 1200 New Jersey Avenue, SE., Washington, DC 20590. Office hours are from 8 a.m. to 4:30 p.m. EST, Monday through Friday, except Federal Holidays.

SUPPLEMENTARY INFORMATION:

Background

The Secretary of Transportation (Secretary) is responsible for implementing regulations to issue safety permits for transporting certain hazardous materials in accordance with 49 U.S.C. Section 5101 et seq. The HM Safety Permit regulations (49 CFR Part 385) require carriers to complete a “Combined Motor Carrier Identification Report and HM Safety Permit Application”—form number MCS-150B (See Attachment D). The HM Safety Permit regulations also require carriers to have a security program. As part of the HM Safety Permit regulations, carriers are required to develop and maintain route plans so that law enforcement officials can verify the correct location of the HM shipment. FMCSA requires companies holding permits to develop a communications plan that allows for the periodic tracking of the shipment. This information collection covers the records of the communications that contains the time of the call and location of the shipment. The records may be kept by either the driver (e.g., recorded in the log book) or the company. These records must be kept, either physically or electronically, for at least six months at the company's principal place of business or readily available to employees at the company's principal place of business.

Title: Hazardous Materials Safety Permits (formerly Hazardous Materials Permit).

OMB Control Number: 2126-0030.

Type of Request: Revision of a currently approved collection.

Respondents: 2,515 motor carriers of property (Forms MCS-150B) .

Frequency: On occasion. The changes will occur at the time of renewal, update or change of information.

Estimated Average Burden per Response: 5 minutes. The communication between motor carriers and their drivers must take place at least two times per day and it is estimated that it will take 5 minutes to maintain a daily communication record for each driver.

Estimated Total Annual Burden Hours: 130,780 hours. 52 annual hours per carrier [5 minutes/60 minutes per trip × 1,570,391 estimated annual trips for carriers/2,515 carriers = 52 hours]. 130,780 total annual burden hours [52 annual hours per carrier × 2,515 carriers = 130,780 hours].

Public Comments Invited: You are asked to comment on any aspect of this information collection, including: (1) Whether the proposed collection is necessary for the FMCSA's performance; (2) the accuracy of the estimated burden; (3) ways for the FMCSA to enhance the quality, usefulness, and clarity of the collected information; and

(4) ways that the burden could be minimized without reducing the quality of the collected information. The agency will summarize and/or include your comments in the request for OMB's clearance of this information collection.

Issued On: July 11, 2007.
D. Marlene Thomas,
Associate Administrator for Administration.

[FR Doc. E7-14032 Filed 7-19-07; 8:45 am]

BILLING CODE 4910-EX-P